PENSION BENEFIT GUARANTY CORPORATION

Submission of Information Collection for OMB Review; Comment Request; Customer Satisfaction Surveys and Focus Groups

AGENCY: Pension Benefit Guaranty Corporation.

ACTION: Notice of request for extension of OMB approval.

SUMMARY: The Pension Benefit Guaranty Corporation (“PBGC”) is requesting that the Office of Management and Budget (“OMB”) extend approval, under the Paperwork Reduction Act, of a collection of information consisting of customer service focus groups and surveys (OMB control number 1212-0053; expires December 31, 2009). This notice informs the public of PBGC's request and solicits public comment on the collection of information.

DATES: Comments should be submitted by December 28, 2009.

ADDRESSES: Comments should be sent to the Office of Information and Regulatory Affairs, Office of Management and Budget, Attention: Desk Officer for Pension Benefit Guaranty Corporation, via electronic mail at OIRA_DOCKET@omb.eop.gov or by fax to 202 395-6974. A copy of PBGC's request may be obtained without charge by writing to the Disclosure Division of the Office of the General Counsel of PBGC at the above address or by visiting that office or calling 202 326-4040 during normal business hours. (TTY and TDD users may call the Federal relay service toll free at 1 800 877-8339 and ask to be connected to 202 326-4040.) The request is also available at http://www.reginfo.gov.

FOR FURTHER INFORMATION CONTACT: Thomas H. Gabriel, Attorney, Legislative and Regulatory Department, Pension Benefit Guaranty Corporation, 1200 K Street, NW., Washington, DC 20005-4026, 202 326-4024. (TTY and TDD users may call the Federal relay service toll-free at 1 800 877-8339 and ask to be connected to 202 326-4024.)

SUPPLEMENTARY INFORMATION: An agency may not conduct or sponsor, and a person is not required to respond to, a collection of information unless it displays a currently valid OMB control number.

PBGC is requesting that OMB extend its approval, for a three-year period, of a generic collection of information consisting of customer satisfaction focus groups and surveys (OMB No. 1212-0053; expires December 31, 2009). The information collection will further the goals of Executive Order 12862, Setting Customer Service Standards, which states the Federal Government must seek to provide “the highest quality of service delivered to customers by private organizations providing a comparable or analogous service.”

PBGC uses customer satisfaction focus groups and surveys to find out about the needs and expectations of its customers and assess how well it is meeting those needs and expectations. By keeping these avenues of communication open, PBGC can continually improve service to its customers, including plan participants and beneficiaries, plan sponsors and their affiliates, plan administrators, pension practitioners, and others involved in the establishment, operation and termination of plans covered by PBGC's insurance program. Because the areas of concern to PBGC and its customers vary and may quickly change, it is important that PBGC have the ability to evaluate customer concerns quickly by developing new vehicles for gathering information under this generic approval. The focus groups and surveys will provide important information on customer attitudes about the delivery and quality of agency services and will be used as part of an ongoing process to improve PBGC programs.

Participation in the focus groups and surveys will be voluntary. PBGC estimates that the annual burden for this collection of information will total 710 hours for 2,000 respondents. PBGC further estimates that the cost to respondents per burden hour will average $72, resulting in a total cost of $51,120 ($72 × 710). PBGC will consult with OMB regarding each specific information collection during the approval period.

PBGC published in the Federal Register a notice of intention to request extension of OMB approval of this collection. 74 FR 40244 (August 11, 2009). No comments were received in response to the notice.

Issued at Washington, DC, this 19th day of November 2009.
John H. Hanley,
Director, Legislative and Regulatory Department, Pension Benefit Guaranty Corporation.

[FR Doc. E9-28165 Filed 11-25-09; 8:45 am]

BILLING CODE 7709-01-P